DEPARTMENT OF HOMELAND SECURITY

Federal Emergency Management Agency

[Docket ID FEMA-2012-0003; Internal Agency Docket No. FEMA-B-1249]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama: Baldwin | City of Gulf Shores (12-04-0183P) | The Honorable Robert S. Craft, Mayor, City of Gulf Shores, P.O. Box 299, Gulf Shores, AL 36547 | Community Development Department, 1905 West 1st Street, Gulf Shores, AL 36547 | http://www.bakeraecom.com/index.php/alabama/baldwin/ | June 4, 2012 | 015005
Arizona:
Coconino | City of Flagstaff (11-09-3783P) | The Honorable Sara Presler, Mayor, City of Flagstaff, 211 West Aspen Avenue, Flagstaff, AZ 86001 | City Hall Stormwater Management Section, 211 West Aspen Avenue, Flagstaff, AZ 86001 | http://www.bakeraecom.com/index.php/arizona/coconino-county/ | May 15, 2012 | 040020
Coconino | City of Flagstaff (11-09-3785P) | The Honorable Sara Presler, Mayor, City of Flagstaff, 211 West Aspen Avenue, Flagstaff, AZ 86001 | City Hall Stormwater Management Section, 211 West Aspen Avenue, Flagstaff, AZ 86001 | http://www.bakeraecom.com/index.php/arizona/coconino-county/ | May 15, 2012 | 040020
Coconino | City of Flagstaff (11-09-3787P) | The Honorable Sara Presler, Mayor, City of Flagstaff, 211 West Aspen Avenue, Flagstaff, AZ 86001 | City Hall Stormwater Management Section, 211 West Aspen Avenue, Flagstaff, AZ 86001 | http://www.bakeraecom.com/index.php/arizona/coconino-county/ | May 9, 2012 | 040020
Coconino | Unincorporated areas of Coconino County (11-09-3785P) | The Honorable Lena Fowler, Chair, Coconino County Board of Supervisors, P.O. Box 948, Tuba City, AZ 86045 | 2500 North Fort Valley Road, Building 1, Flagstaff, AZ 86001 | http://www.bakeraecom.com/index.php/arizona/coconino-county/ | May 15, 2012 | 040019
Maricopa | Town of Wickenburg (11-09-3523P) | The Honorable Kelly Blunt, Mayor, Town of Wickenburg, 155 North Tegner Street, Suite A, Wickenburg, AZ 85390 | 155 North Tegner Street, Suite A, Wickenburg, AZ 85390 | http://www.bakeraecom.com/index.php/arizona/maricopa-county/ | May 4, 2012 | 040056
Maricopa | Unincorporated areas of Maricopa County (11-09-3523P) | Mr. Don Stapley, District 2 Supervisor, 301 West Jefferson, 10th Floor, Phoenix, AZ 85003 | 301 West Jefferson, 10th Floor, Phoenix, AZ 85003 | http://www.bakeraecom.com/index.php/arizona/maricopa-county/ | May 4, 2012 | 040037
Arkansas:
Benton | City of Bentonville (11-06-3059P) | The Honorable Bob McCaslin, Mayor, City of Bentonville, 117 West Central Avenue, Bentonville, AR 72712 | 117 West Central Avenue, Bentonville, AR 72712 | http://www.rampp-team.com/lomrs.htm | April 27, 2012 | 050012
Benton | Unincorporated areas of Benton County (11-06-3059P) | The Honorable Robert Clinard, Benton County Judge, 215 East Central Avenue, Bentonville, AR 72712 | 215 East Central Avenue, Bentonville, AR 72712 | http://www.rampp-team.com/lomrs.htm | April 27, 2012 | 050419
California: Placer | Unincorporated areas of Placer County (12-09-0102P) | The Honorable Jennifer Montgomery, Chair, Placer County Board of Supervisors, 175 Fulweiler Avenue, Auburn, CA 95603 | Department of Public Works, 11444 B Avenue, Auburn, CA 95603 | http://www.bakeraecom.com/index.php/california/placer-county/ | June 4, 2012 | 060239
Colorado:
Boulder | City of Lafayette (11-08-0913P) | The Honorable Carolyn Cutler, Mayor, City of Lafayette, 1290 South Public Road, Lafayette, CO 80026 | Planning Department, 1290 South Public Road, Lafayette, CO 80026 | http://www.bakeraecom.com/index.php/colorado/boulder/ | April 27, 2012 | 080026
Boulder | City of Louisville (11-08-0913P) | The Honorable Bob Muckle, Mayor, City of Louisville, 749 Main Street Louisville, CO 80027 | Community Development, 749 Main Street Louisville, CO 80027 | http://www.bakeraecom.com/index.php/colorado/boulder/ | April 27, 2012 | 085076
Boulder | Town of Erie (11-08-0866P) | The Honorable Joe Wilson, Mayor, Town of Erie, P.O. Box 750 Erie, CO 80516 | 1739 Broadway, Suite 300, Boulder, CO 80306 | http://www.bakeraecom.com/index.php/colorado/boulder/ | May 15, 2012 | 080181
Boulder | Unincorporated areas of Boulder County (11-08-0866P) | The Honorable Ben Pearlman, Chairman, Boulder County Board of Commissioners, P.O. Box 471, Boulder, CO 80306 | 1739 Broadway, Suite 300, Boulder, CO 80306 | http://www.bakeraecom.com/index.php/colorado/boulder/ | May 15, 2012 | 080023
Jefferson | City of Lakewood (12-08-0106P) | The Honorable Bob Murphy, Mayor, City of Lakewood, Lakewood Civic Center South, 480 South Allison Parkway, Lakewood, CO 80226 | Civic Center North—Engineering, 480 South Allison Parkway, Lakewood, CO 80226 | http://www.bakeraecom.com/index.php/colorado/jefferson-5/ | June 8, 2012 | 085075
Florida:
Charlotte | Unincorporated areas of Charlotte County (12-04-0206P) | The Honorable Bob Starr, Chairman, Charlotte County Board of Commissioners, 18500 Murdock Circle, Port Charlotte, FL 33948 | 18500 Murdock Circle, Port Charlotte, FL 33948 | http://www.bakeraecom.com/index.php/florida/charlotte/ | June 1, 2012 | 120061
Leon | Unincorporated areas of Leon County (11-04-5515P) | The Honorable John E. Dailey, Chairman, Leon County Board of Commissioners, 301 South Monroe Street, 5th Floor, Tallahassee, FL 32301 | Leon County Courthouse, 301 South Monroe Street, Tallahassee, FL 32301 | http://www.bakeraecom.com/index.php/florida/leon/ | May 21, 2012 | 120143
Monroe | Unincorporated areas of Monroe County (12-04-0072P) | The Honorable Kim Wigington, Mayor Pro Tem, Monroe County, 500 Whitehead Street, Suite 102, Key West, FL 33040 | Monroe County Department of Planning and Environmental Resources, 2798 Overseas Highway, Marathon, FL 33050 | http://www.bakeraecom.com/index.php/florida/monroe-3/ | May 31, 2012 | 125129
Monroe | Unincorporated areas of Monroe County (12-04-0205P) | The Honorable Kim Wigington, Mayor Pro Tem, Monroe County, 500 Whitehead Street, Suite 102, Key West, FL 33040 | Monroe County Department of Planning and Environmental Resources, 2798 Overseas Highway, Marathon, FL 33050 | http://www.bakeraecom.com/index.php/florida/monroe-3/ | May 7, 2012 | 125129
Orange | City of Orlando (11-04-8127P) | The Honorable Buddy Dyer, Mayor, City of Orlando, P.O. Box 4990, Orlando, FL 32808 | Permitting Services, 400 South Orange Avenue, Orlando, FL 32801 | http://www.bakeraecom.com/index.php/florida/orange-2/ | May 9, 2012 | 120186
Polk | Unincorporated areas of Polk County (11-04-6001P) | The Honorable Sam Johnson, Chairman, Polk County Board of Commissioners, Drawer BC01, P.O. Box 9005, Bartow, FL 33831 | Polk County Engineering Division, 330 West Church Street, Bartow, FL 33830 | http://www.bakeraecom.com/index.php/florida/polk/ | June 7, 2012 | 120261
Idaho:
Blaine | City of Hailey (11-10-1694P) | The Honorable Rick Davis, Mayor, City of Hailey, 115 Main Street South, Suite H, Hailey, ID 83333 | 115 Main Street Hailey, ID 83333 | http://www.starr-team.com/starr/LOMR/Pages/RegionX.aspx | May 10, 2012 | 160022
Latah | Unincorporated areas of Latah County (11-10-1485P) | The Honorable Jennifer Barrett, Chair, Latah County Board of Commissioners, 522 South Adams Street, Moscow, ID 83843 | 522 South Adams Street, Moscow, ID 83843 | http://www.starr-team.com/starr/LOMR/Pages/RegionX.aspx | May 11, 2012 | 160086
Illinois:
McHenry | City of Crystal Lake (11-05-7872P) | The Honorable Aaron T. Shepley, Mayor, City of Crystal Lake, 100 West Woodstock Street, Crystal Lake, IL 60014 | 100 West Woodstock Street, Crystal Lake, IL 60014 | http://www.starr-team.com/starr/LOMR/Pages/RegionV.aspx | May 21, 2012 | 170476
Will | Village of Romeoville (11-05-7401P) | The Honorable John Noak, Mayor, Village of Romeoville, 13 Montrose Drive, Romeoville, IL 60446 | 1050 West Romeo Road, Romeoville, IL 60446 | http://www.starr-team.com/starr/LOMR/Pages/RegionV.aspx | June 1, 2012 | 170711
Kansas: Johnson | City of Leawood (12-07-0114X) | The Honorable Peggy J. Dunn, Mayor, City of Leawood, 4800 Town Center Drive, Leawood, KS 66211 | 4800 Town Center Drive, Leawood, KS 66211 | http://www.starr-team.com/starr/LOMR/Pages/RegionVII.aspx | May 23, 2012 | 200167
Minnesota:
Dakota | City of Inver Grove Heights (11-05-5362P) | The Honorable George Tourville, Mayor, City of Inver Grove Heights, 8150 Barbara Avenue, Inver Grove Heights, MN 55077 | 8150 Barbara Avenue, Inner Grove Heights, Minnesota, 55077 | http://www.starr-team.com/starr/LOMR/Pages/RegionV.aspx | May 21, 2012 | 270106
Washington | City of Newport (11-05-5362P) | The Honorable Tim Geraghty, Mayor, City of Newport, 596 7th Avenue, Newport, MN 55055 | 596 7th Avenue, Newport, MN 55055 | http://www.starr-team.com/starr/LOMR/Pages/RegionV.aspx | May 21, 2012 | 270510
Washington | City of St. Paul Park (11-05-5362P) | The Honorable John Hunziker, Mayor, City of St. Paul Park, 600 Portland Avenue, St. Paul Park, MN 55071 | 600 Portland Avenue, St. Paul Park, MN 55071 | http://www.starr-team.com/starr/LOMR/Pages/RegionV.aspx | May 21, 2012 | 270514
Washington | Unincorporated areas of Washington County (11-05-5362P) | The Honorable Gary Kriesel, Chair, Washington County Board of Commissioners, 14949 62nd Street North, Stillwater, MN 55082 | 14949 62nd Street North, Stillwater, MN 55082 | http://www.starr-team.com/starr/LOMR/Pages/RegionV.aspx | May 21, 2012 | 270499
Nevada:
Clark | City of North Las Vegas (11-09-2931P) | The Honorable Shari L. Buck, Mayor, City of North Las Vegas, 2250 Las Vegas Boulevard North, North Las Vegas, NV 89030 | Public Works Department, 2200 Civic Center Drive, North Las Vegas, NV 89030 | http://www.bakeraecom.com/index.php/nevada/clark-county/ | June 4, 2012 | 320007
Clark | Unincorporated areas of Clark County (11-09-2931P) | The Honorable Susan Brager, Chair, Clark County Commissioners, 500 South Grand Central Parkway, Las Vegas, NV 89155 | Office of the Director of Public Works, 500 Grand Central Parkway, Las Vegas, NV 89155 | http://www.bakeraecom.com/index.php/nevada/clark-county/ | June 4, 2012 | 320003
New Mexico: Sandoval | Unincorporated areas of Sandoval County (11-06-0073P) | The Honorable Darryl Madalena, Chairman, Sandoval County Commission, 1500 Idalia Road, Building D Bernalillo, NM 87004 | 711 Camino Del Pueblo, Bernalillo, NM 87004 | http://www.rampp-team.com/lomrs.htm | May 4, 2012 | 350055
Ohio:
Franklin | City of Reynoldsburg (11-05-8753P) | The Honorable Brad McCloud, Mayor, City of Reynoldsburg, 7232 East Main Street, Reynoldsburg, OH 43068 | 7232 East Main Street, Reynoldsburg, OH 43068 | http://www.starr-team.com/starr/LOMR/Pages/RegionV.aspx | June 4, 2012 | 390177
Licking | Unincorporated areas of Licking County (11-05-5165P) | The Honorable Timothy Bubb, President, Licking County Commissioners, 20 South Second Street, Newark, OH 43055 | 20 South Second Street, Newark, OH 43055 | http://www.starr-team.com/starr/LOMR/Pages/RegionV.aspx | May 4, 2012 | 390328
Licking | Village of Granville (11-05-5165P) | The Honorable Melissa Hartfield, Mayor, Village of Granville, 141 East Broadway, Granville, OH 43023 | 141 East Broadway, Granville, OH 43023 | http://www.starr-team.com/starr/LOMR/Pages/RegionV.aspx | May 4, 2012 | 390330
Oklahoma:
Oklahoma | City of Oklahoma City (11-06-3061P) | The Honorable Mick Cornett, Mayor, City of Oklahoma City, 200 North Walker Avenue, 3rd Floor, Oklahoma City, OK 73102 | 420 West Main Street, Suite 700, Oklahoma City, OK 73012 | http://www.rampp-team.com/lomrs.htm | May 9, 2012 | 405378
Oklahoma | City of Oklahoma City (10-06-2593P) | The Honorable Mick Cornett, Mayor, City of Oklahoma City, 200 North Walker Avenue, 3rd Floor, Oklahoma City, OK 73102 | 420 West Main Street, Suite 700, Oklahoma City, OK 73012 | http://www.rampp-team.com/lomrs.htm | May 17, 2012 | 405378
Tulsa | City of Tulsa (11-06-2274P) | The Honorable Dewey F. Bartlett, Jr., Mayor, City of Tulsa, 175 East 2nd Street, Suite 690, Tulsa, OK 74103 | Stormwater Design Office, Engineering Services Department, 2317 South Jackson, Suite 302, Tulsa, OK 74103 | http://www.rampp-team.com/lomrs.htm | May 18, 2012 | 405381
Jackson | City of Medford (11-10-1732P) | The Honorable Gary H. Wheeler, Mayor, City of Medford, 411 West 8th Street, Medford, OR 97501 | 411 West 8th Street, Medford, OR 97501 | http://www.starr-team.com/starr/LOMR/Pages/RegionX.aspx | May 2, 2012 | 410096
Jackson | Unincorporated areas of Jackson County (11-10-1732P) | The Honorable Dennis C.W. Smith, Chair, Board of Commissioners, Jackson County Courthouse, 10 South Oakdale Avenue, Room 214 Medford, OR 97501 | Jackson County Courthouse, 10 South Oakdale Avenue, Room 214, Medford, OR 97501 | http://www.starr-team.com/starr/LOMR/Pages/RegionX.aspx | May 2, 2012 | 415589
Pennsylvania: Bucks | Township of Lower Southampton (11-03-2022P) | Mr. Ted Taylor, Manager, Township of Lower Southampton, 1500 Desire Avenue, Feasterville, PA 19053 | Township of Lower Southampton Zoning Department, 1500 Desire Avenue, Feasterville, PA 19053 | http://www.rampp-team.com/lomrs.htm | May 4, 2012 | 420192
South Carolina:
Charleston | City of Charleston (11-04-0520P) | The Honorable Joseph P. Riley, Jr., Mayor, City of Charleston, P.O. Box 652, Charleston, SC 29402 | Engineering Department, 75 Calhoun Street, Division 301, Charleston, SC 29401 | http://www.bakeraecom.com/index.php/southcarolina/charleston/ | May 9, 2012 | 455412
Charleston | Unincorporated areas of Charleston County (11-04-0520P) | The Honorable Teddie E. Pryor, Sr., Chairman, Charleston County Council, Lonnie Hamilton, III Public Services Building, 4045 Bridge View Drive, North Charleston, SC 29405 | Charleston County Building Services, 4045 Bridge View Drive, North Charleston, SC 29405 | http://www.bakeraecom.com/index.php/southcarolina/charleston/ | May 9, 2012 | 455413
Greenville | City of Greenville (11-04-4629P) | The Honorable Knox White, Mayor, City of Greenville, 206 South Main Street, Greenville, SC 29601 | City Hall, 206 South Main Street, Greenville, SC 29602 | http://www.bakeraecom.com/index.php/southcarolina/greenville/ | May 21, 2012 | 450091
South Dakota:
Lake | City of Madison (11-08-0817P) | The Honorable Gene Hexom, Mayor, City of Madison, 116 West Center Street, Madison, SD 57042 | 116 West Center Street, Madison, SD 57042 | http://www.bakeraecom.com/index.php/south-dakota/lake-2/ | May 15, 2012 | 460044
Lake | Unincorporated areas of Lake County (11-08-0817P) | The Honorable Scott Pedersen, Chairman, Lake County Board of Commissioners, 200 East Center Street, Madison, SD 57042 | 200 East Center Street, Madison, SD 57042 | http://www.bakeraecom.com/index.php/south-dakota/lake-2/ | May 15, 2012 | 460276
Texas:
Collin | City of McKinney (11-06-1798P) | The Honorable Brian S. Loughmiller, Mayor, City of McKinney, 222 North Tennessee Street, McKinney, TX 75069 | 222 North Tennessee Street, McKinney, TX 75069 | http://www.rampp-team.com/lomrs.htm | May 3, 2012 | 480135
Guadalupe | City of Cibolo (11-06-2370P) | The Honorable Jennifer Hartman, Mayor, City of Cibolo, 200 South Main Street, Cibolo, TX 78108 | 200 South Main Street, Cibolo, TX 78108 | http://www.rampp-team.com/lomrs.htm | May 4, 2012 | 480267
Guadalupe | City of Seguin (11-06-2342P) | The Honorable Betty Ann Matthies, Mayor, City of Seguin, 210 East Gonzales Street, Seguin, TX 78155 | City Hall, 205 North River Street, Seguin, TX 78155 | http://www.rampp-team.com/lomrs.htm | April 25, 2012 | 485508
Guadalupe | Unincorporated areas of Guadalupe County (11-06-2342P) | The Honorable Mike Wiggins, Guadalupe County Judge, 211 West Court Street, Seguin, TX 78155 | Guadalupe County Environmental Health Department, 2605 North Guadalupe Street, Seguin, TX 78155 | http://www.rampp-team.com/lomrs.htm | April 25, 2012 | 480266
Guadalupe | Unincorporated areas of Guadalupe County (11-06-2370P) | The Honorable Mike Wiggins, Guadalupe County Judge, 211 West Court Street, Seguin, TX 78155 | Guadalupe County Environmental Health Department, 2605 North Guadalupe Street, Seguin, TX 78155 | http://www.rampp-team.com/lomrs.htm | May 4, 2012 | 480266
Hays | Unincorporated areas of Hays County (11-06-3956P) | The Honorable Bert Cobb, M.D., Hays County Judge, 111 East San Antonio Street, Suite 300, San Marcos, TX 78666 | 1251 Civic Center Loop, San Marcos, TX 78666 | http://www.rampp-team.com/lomrs.htm | May 24, 2012 | 480321
Hays | Village of Wimberley (11-06-3956P) | The Honorable Bob Flocke, Mayor, City of Wimberley, 221 Stillwater Road, Wimberley, TX 78676 | 13210 Ranch Road 12, Wimberley, TX 78676 | http://www.rampp-team.com/lomrs.htm | May 24, 2012 | 481694
Johnson | City of Burleson (11-06-2745P) | The Honorable Ken D. Shetter, Mayor, City of Burleson, 141 West Renfro Street, Burleson, TX 76028 | 141 West Renfro Street, Burleson, TX 76028 | http://www.rampp-team.com/lomrs.htm | May 24, 2012 | 485459
Utah: Davis | City of Kaysville (11-08-0022P) | The Honorable Steve A. Hiatt, Mayor, City of Kaysville, 697 North 240 East, Kaysville, UT 84037 | 23 East Center, Kaysville, UT 84037 | http://www.bakeraecom.com/index.php/utah/davis-county/ | June 4, 2012 | 490046
Virginia: Stafford | Unincorporated areas of Stafford County (10-03-2108P) | The Honorable L. Mark Dudenhefer, Chairman, Stafford County Board of Supervisors, 1300 Courthouse Road, Stafford, VA 22554 | Stafford County Administration Center, 1300 Courthouse Road, Stafford, VA 22555 | http://www.rampp-team.com/lomrs.htm | May 17, 2012 | 510154
West Virginia:
Jefferson | City of Ranson (11-03-1484P) | The Honorable A. David Hamill, Mayor, City of Ranson, 312 South Mildred Street, Ranson, WV 25438 | 312 South Mildred Street, Ranson, WV 25438 | https://www.rampp-team.com/lomrs.htm | May 23, 2012 | 540068
Jefferson | Unincorporated areas of Jefferson County (11-03-1484P) | The Honorable Patsy Noland, President, Jefferson County Commission, 124 East Washington Street, Charles Town, WV 25414 | 124 East Washington Street, Charles Town, WV 25414 | https://www.rampp-team.com/lomrs.htm | May 23, 2012 | 540065
Wisconsin:
Barron | Unincorporated areas of Barron County (12-05-0299P) | The Honorable James A. Miller, Barron County Board Supervisor, 330 East LaSalle Avenue, Barron, WI 54812 | 330 East LaSalle Avenue, Barron, WI 54812 | http://www.starr-team.com/starr/LOMR/Pages/RegionV.aspx | May 10, 2012 | 550568
Columbia | City of Columbus (11-05-4519P) | The Honorable Bob Link, Mayor, City of Columbus, 103 Wildwood Drive, Columbus, WI 53925 | 105 North Dickason Boulevard Columbus, WI 53925 | http://www.starr-team.com/starr/LOMR/Pages/RegionV.aspx | May 29, 2012 | 550058
Columbia | Unincorporated areas of Columbia County (11-05-4519P) | The Honorable Robert Westby, Columbia County Board Chairman, 400 DeWitt Street, Portage, WI 53901 | 400 DeWitt Street, Portage, WI 53901 | http://www.starr-team.com/starr/LOMR/Pages/RegionV.aspx | May 29, 2012 | 550581
Dunn | Village of Boyceville (11-05-9039P) | The Honorable Gilbert Krueger, President, Village of Boyceville, P.O. Box 368, Boyceville, WI 54725 | 903 Main Street, Boyceville, WI 54725 | http://www.starr-team.com/starr/LOMR/Pages/RegionV.aspx | April 26, 2012 | 550119
Outagamie | City of Appleton (11-05-7670P) | The Honorable Timothy Hanna, Mayor, City of Appleton, 100 North Appleton Street, Appleton, WI 54911 | 100 North Appleton Street, Appleton, WI 54911 | http://www.starr-team.com/starr/LOMR/Pages/RegionV.aspx | May 9, 2012 | 555542

(Catalog of Federal Domestic Assistance No. 97.022, “Flood Insurance.”)

Dated: April 17, 2012.
Sandra K. Knight,
Deputy Associate Administrator for Mitigation, Department of Homeland Security, Federal Emergency Management Agency.

[FR Doc. 2012-10281 Filed 4-27-12; 8:45 am]

BILLING CODE 9110-12-P